DEPARTMENT OF LABOR

Employment and Training Administration

[TA-W-52,767]

Karen Manufacturing, Elizabeth, NJ; Notice of Termination of Investigation

Pursuant to section 221 of the Trade Act of 1974, an investigation was initiated on September 4, 2003, in response to a petition filed by the New Jersey Department of Labor Coordinator on behalf of workers at Karen Manufacturing, Elizabeth, New Jersey.

This investigation revealed that the petitioner regarding the investigation has been deemed invalid. Consequently, the investigation has been terminated.

Signed in Washington, DC, this 10th day of September, 2003.
Elliott S. Kushner,
Certifying Officer, Division of Trade Adjustment Assistance.

[FR Doc. 03-27578 Filed 10-31-03; 8:45 am]

BILLING CODE 4510-30-P